DEPARTMENT OF TRANSPORTATION

Federal Aviation Administration

14 CFR Part 39

[Docket No. FAA-2014-0018; Directorate Identifier 2013-CE-049-AD; Amendment 39-17822; AD 2014-07-08]

RIN 2120-AA64

Airworthiness Directives; Centrair Gliders

AGENCY: Federal Aviation Administration (FAA), Department of Transportation (DOT).

ACTION: Final rule.

SUMMARY: We are adopting a new airworthiness directive (AD) for Centrair Model 101, 101A, 101AP, and 101P gliders. This AD results from mandatory continuing airworthiness information (MCAI) issued by an aviation authority of another country to identify and correct an unsafe condition on an aviation product. The MCAI describes the unsafe condition as structural damage to the fuselage. We are issuing this AD to require actions to address the unsafe condition on these products.

DATES: This AD is effective May 27, 2014.

The Director of the Federal Register approved the incorporation by reference of a certain publication listed in the AD as of May 27, 2014.

ADDRESSES: You may examine the AD docket on the Internet at http://www.regulations.gov by searching for and locating Docket No. FAA-2014-0018; or in person at Document Management Facility, U.S. Department of Transportation, Docket Operations, M-30, West Building Ground Floor, Room W12-140, 1200 New Jersey Avenue SE., Washington, DC 20590.

For service information identified in this AD, contact Société Nouvelle CENTRAIR, Aerodrome B.P. 44, F- 36300 LeBlanc, France; telephone: +33(0)254370796, fax: +33(0)254374864, email: contact@sncentrair.com; Internet: none. You may view this referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to Centrair Model 101, 101A, 101AP, and 101P airplanes. The NPRM was published in the Federal Register on January 15, 2014 (79 FR 2593). The NPRM proposed to correct an unsafe condition for the specified products and was based on mandatory continuing airworthiness information (MCAI) originated by an aviation authority of another country. The MCAI states:

Occurrences of structural damage were reported on several Centrair 101 sailplane fuselage. The results of the subsequent investigations identified that these findings were accidental damage related and not identified in time during routine maintenance, due to inadequate maintenance instructions.

This condition, if not detected and corrected, could reduce the structural integrity of the sailplane.

To address this potential unsafe condition, Société Nouvelle (SN) Centrair issued Service Bulletin (SB) 101-06 to provide instructions for structural inspections and Direction Générale de l'Aviation Civile (DGAC) of France issued AD 85-21-(A) to mandate the fuselage inspections described in that SB.

Since that AD was issued, SN Centrair issued SB 101-06 at revision (rev.) 1 to provide improved instructions to identify accidental structural damages.

For the reasons described above, this AD retains the requirements of DGAC France AD 85-21-(A), which is superseded, but requires accomplishment of those fuselage structural inspections in accordance with improved instructions.

The MCAI can be found in the AD docket on the Internet at: http://www.regulations.gov/#!documentDetail;D=FAA-2014-0018-0002.

Comments

We gave the public the opportunity to participate in developing this AD. We received no comments on the NPRM (79 FR 2593, January 15, 2014) or on the determination of the cost to the public.

Conclusion

We reviewed the relevant data and determined that air safety and the public interest require adopting the AD as proposed except for minor editorial changes. We have determined that these minor changes:

• Are consistent with the intent that was proposed in the NPRM (79 FR 2593, January 15, 2014) for correcting the unsafe condition; and

• Do not add any additional burden upon the public than was already proposed in the NPRM.

Costs of Compliance

We estimate that this AD will affect 43 products of U.S. registry. We also estimate that it would take about 3 work-hours per product to comply with the basic requirements of this AD. The average labor rate is $85 per work-hour.

Based on these figures, we estimate the cost of this AD on U.S. operators to be $10,965, or $255 per product.

Since there are currently no repair instructions available if discrepancies are found during the required inspections, we have no way of determining the number of products that may need follow-on actions or what the cost per product would be.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0018; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-07-08 Centrair: Amendment 39-17822; Docket No. FAA-2014-0018; Directorate Identifier 2013-CE-049-AD.

(a) Effective Date

This airworthiness directive (AD) becomes effective May 27, 2014.

(b) Affected ADs

None.

(c) Applicability

This AD applies to CENTRAIR Models 101, 101A, 101P, and 101AP gliders, all serial numbers, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as structural damage to the fuselage. We are issuing this AD to detect and correct structural damage not identified during routine maintenance inspections, which could lead to reduced structural integrity of the glider.

(f) Actions and Compliance

Unless already done, do the following actions in paragraphs (f)(1) through (f)(3) of this AD:

(1) Within 25 days after May 27, 2014 (the effective date of this AD) and repetitively thereafter at intervals not to exceed every 12 months, inspect all fuselage frames and ribs following the instructions in Société Nouvelle CENTRAIR Mandatory Service Bulletin 101-06, Revision 1, dated August 5, 2013.

(2) If structural damage is detected during any inspection required by paragraph (f)(1) of this AD, before further flight, contact Société Nouvelle CENTRAIR at the address specified in paragraph (i) of this AD to obtain FAA-approved repair instructions approved specifically for this AD, and before further flight, repair the glider using these repair instructions.

(3) Accomplishment of a repair, as required by paragraph (f)(2) of this AD, does not constitute terminating action for the inspection required by paragraph (f)(1) of this AD.

Note 1 to paragraph (f) of this AD: We recommend that you also inspect the fuselage frames and ribs after the occurrence of any of the following events following the instructions in Société Nouvelle CENTRAIR Mandatory Service Bulletin 101-06, Revision 1, dated August 5, 2013: Landing with retracted gear, landing gear retraction during landing run, ground looping during take-off or landing, hard landing, or damage of internal structure of the fuselage. If structural damage is detected during any of these inspections, we recommend you contact Société Nouvelle CENTRAIR at the address specified in paragraph (i) of this AD for FAA-approved repair instructions.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2013-0258, dated October 25, 2013, for related information. The MCAI can be found in the AD docket on the Internet at: http://www.regulations.gov/#!documentDetail;D=FAA-2014-0018-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Société Nouvelle CENTRAIR Mandatory Service Bulletin 101-06, Revision 1, dated August 5, 2013.

(ii) Reserved.

(3) For Centrair Gliders service information identified in this AD, contact Société Nouvelle CENTRAIR, Aerodrome B.P. 44, F- 36300 LeBlanc, France; telephone: +33(0)254370796, fax: +33(0)254374864, email: contact@sncentrair.com; Internet: none.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on April 4, 2014.
Earl Lawrence,
Manager, Small Airplane Directorate, Aircraft Certification Service.

[FR Doc. 2014-08074 Filed 4-21-14; 8:45 am]

BILLING CODE 4910-13-P